NATIONAL CREDIT UNION ADMINISTRATION

Notice of Meeting

Time and Date: 10 a.m., Thursday, January 17, 2002.

Place: Board Room, 7th Floor, Room 7047, 1775 Duke Street, Alexandria, VA 22314-3428.

Status: Open.

Matters to be Considered: 1. Quarterly Insurance Fund Report.

2. Requests from three (3) Federal Credit Unions to Convert to Community Charters.

3. Wisconsin Member Business Loan Rule.

4. Request from a Corporate Federal Credit Union for a Field of Membership Amendment.

For Further Information Contact: Becky Baker, Secretary of the Board, telephone 703-518-6304.

Becky Baker,
Secretary of the Board.

[FR Doc. 02-1059 Filed 1-10-02; 4:43 pm]

BILLING CODE 7535-01-M